DEPARTMENT OF THE INTERIOR

National Park Service

[NPS-WASO-21656; PX.XVPAD0522.0.1]

Change of Jurisdiction—National Park Service Units Within the Commonwealth of Kentucky

AGENCY: National Park Service, Interior.

ACTION: Notice of change in jurisdiction.

SUMMARY: On behalf of the United States, the National Park Service accepted exclusive jurisdiction from the Commonwealth of Kentucky over certain lands and waters administered by the National Park Service within Mammoth Cave National Park. The National Park Service also accepted concurrent jurisdiction between the United States and the Commonwealth of Kentucky on certain lands and waters administered by the National Park Service within Abraham Lincoln National Historic Site, Cumberland Gap National Historical Park, and Fort Donelson National Battlefield.

DATES: Effective Date: Exclusive jurisdiction on certain lands and waters within Mammoth Cave National Park became effective on December 7, 2015. Concurrent jurisdiction on certain lands and waters of Abraham Lincoln National Historic Site, Cumberland Gap National Historical Park, and Fort Donelson National Battlefield became effective on July 28, 2016.

FOR FURTHER INFORMATION CONTACT: Jonathan Pierce, National Park Service, Southeast Region, 100 Alabama Street SW., 1924 Building, Atlanta, GA 30303. Phone: 404-507-5726.

SUPPLEMENTARY INFORMATION:

Exclusive Jurisdiction

Mammoth Cave National Park (MACA) was created by Congress in 1926. In 1930, the Commonwealth of Kentucky ceded to the United States exclusive jurisdiction over all lands and waters acquired by the United States for MACA, effective when the United States accepted such jurisdiction by statute on June 5, 1942. By Kentucky law, the cession and acceptance was limited to lands owned by the United States. On July 2, 1986, the Director of the National Park Service (NPS) notified the Governor of Kentucky that he was accepting exclusive jurisdiction over lands and waters acquired by the United States within MACA between 1942 and 1986.

Since July 2, 1986, the United States has acquired additional lands for MACA. Accordingly, in a letter dated May 21, 2014, the Director of the NPS notified the Governor of the Commonwealth of Kentucky that he formally accepted on behalf of NPS exclusive jurisdiction over lands and waters within the legislated boundaries of MACA, that were acquired by the U.S. Government after July 2, 1986. Exclusive jurisdiction over these lands was established by the Governor's acknowledgement of receipt of the letter on December 7, 2015.

For the lands within MACA whereby exclusive jurisdiction had been accepted in 1942 and 1986, that acceptance remains in effect.

Concurrent Jurisdiction

On April 19, 1994, upon application by the NPS, the Governor of the Commonwealth of Kentucky signed Executive Order 94-355 (E.O.), ceding legislative jurisdiction on lands owned by the United States within Abraham Lincoln Birthplace National Historic Site (ABLI), Big South Fork National River and Recreation Area (BISO), and Cumberland Gap National Historical Park (CUGA). The Director of the NPS accepted the cession as required by Federal law. Part IV of the E.O. provided that, in the event of an alteration of the descriptions of the lands, the NPS would transmit new descriptions to be annexed to the E.O.

Since April 19, 1994, the United States has acquired additional lands in Kentucky within the legislated boundaries of ABLI and CUGA. Further, an additional unit of the National Park System, Fort Donelson National Battlefield (FODO; Fort Heiman Unit), has been established in the Commonwealth of Kentucky. To bring these NPS administered lands under concurrent legislative jurisdiction, it was necessary to update the E.O. of April 19, 1994.

Therefore, the Commonwealth of Kentucky through signature on a cession instrument by the Governor ceded to the United States such measure of jurisdiction as necessary to effectuate a status of concurrent legislative jurisdiction for purposes of criminal law enforcement on these acquired lands within ABLI, CUGA, and FODO.

This cession is limited to lands within each of the above-listed units which were acquired since April 19, 1994. The NPS, acting through the Director, formally accepted the described cession of concurrent jurisdiction, through his signature on the cession instrument. Concurrent legislative jurisdiction became effective with entry of the cession instrument upon the Executive Journal for the Commonwealth of Kentucky on July 28, 2016.

For all other NPS administered lands within these units whereby concurrent legislative jurisdiction had been ceded in 1994, that cession remains in effect.

Dated: August 23, 2016.
Michael T. Reynolds,
Acting Director, National Park Service.

[FR Doc. 2016-21098 Filed 8-31-16; 8:45 am]

BILLING CODE 4312-EJ-P